DEPARTMENT OF ENERGY

Federal Energy Regulatory Commission

[Docket Nos. RP08-591-000]

Equitrans, L.P.; Notice Deferring Technical Conference Date

January 27, 2009.

Take notice that the technical conference scheduled in the above-captioned proceeding for January 28, 2009 is cancelled and will be rescheduled at a later date. For further information please contact Anna Fernandez at (202) 502-6682 or e-mail Anna.Fernandez@ferc.gov.

Kimberly D. Bose,
Secretary.

[FR Doc. E9-2213 Filed 2-2-09; 8:45 am]

BILLING CODE 6717-01-P